ENVIRONMENTAL PROTECTION AGENCY

40 CFR Part 98

[EPA-HQ-OAR-2011-0417; FRL-9796-9]

Greenhouse Gas Reporting Rule: Revision to Best Available Monitoring Method Request Submission Deadline for Petroleum and Natural Gas Systems Source Category (Withdrawal of Direct Final Rule)

AGENCY: Environmental Protection Agency (EPA).

ACTION: Withdrawal of direct final rule.

SUMMARY: EPA published a direct final rule, Greenhouse Gas Reporting Rule: Revision to Best Available Monitoring Method Request Submission Deadline for Petroleum and Natural Gas Systems Source Category, on February 19, 2013. That direct final rule amended the deadline by which owners or operators of facilities subject to the petroleum and natural gas systems source category of the Greenhouse Gas Reporting Rule are required to submit requests for use of best available monitoring methods (BAMM) to the Administrator. Because EPA received potentially adverse comments on the amendments in that direct final rule, we are issuing this notice to withdraw the direct final rule.

DATES: Effective April 2, 2013, the EPA withdraws the direct final rule published at 78 FR 11585 on February 19, 2013.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReportingRule@epa.gov.

SUPPLEMENTARY INFORMATION: Because EPA received potentially adverse comments, EPA is withdrawing the direct final rule, Greenhouse Gas Reporting Rule: Revision to Best Available Monitoring Method Request Submission Deadline for Petroleum and Natural Gas Systems Source Category, published at 78 FR 11585 on February 19, 2013. We stated in that direct final rule that if we received adverse comment by March 21, 2013, we would publish a timely withdrawal in the Federal Register to inform the public that this direct final rule will not take effect. We subsequently received potentially adverse comments on that direct final rule, so we are withdrawing the direct final rule in this notice. We are addressing the potentially adverse comments in a final action based on the proposal also published on February 19, 2013 (78 FR 11619). As stated in the direct final rule and the parallel proposed rule, we are not instituting a second comment period on this action.

List of Subjects in 40 CFR Part 98

Environmental Protection, Administrative practice and procedures, Air pollution control, Greenhouse gases, Monitoring, Reporting and recordkeeping requirements.

Dated: March 26, 2013.
Gina McCarthy,
Assistant Administrator, Office of Air and Radiation.

Accordingly, the amendments to the rule published on February 19, 2013 (78 FR 11585) are withdrawn as of April 2, 2013.

[FR Doc. 2013-07536 Filed 4-1-13; 8:45 am]

BILLING CODE 6560-50-P